DEPARTMENT OF AGRICULTURE

Rural Utilities Service

Southern Illinois Power Cooperative; Notice of Intent

AGENCY: Rural Utilities Service, USDA.

ACTION: Notice of intent to hold scoping meeting and prepare an environmental assessment.

SUMMARY: Notice is hereby given that the Rural Utilities Service (RUS), pursuant to the National Environmental Policy Act (NEPA) of 1969 (42 U.S.C. 4321 et seq.), the Council on Environmental Quality (CEQ) Regulations for implementing NEPA (40 CFR parts 1500-1508), and RUS Environmental Policies and Procedures (7 CFR part 1794) proposes to hold a scoping meeting and prepare an Environmental Assessment (EA) for its Federal action related to a project proposed by Southern Illinois Power Cooperative (SIPC) of Marion, Illinois. The project consists of two simple-cycle electric combustion turbines and the associated facilities. The proposed combustion turbines will have a total nominal generating capacity of 166 megawatts (MW), with a summertime rating of 144 MW. The combustion turbines will be located across the road immediately west of SIPC's existing Marion Station approximately 8 miles south of Marion, Illinois.

Meeting Information: RUS will conduct a scoping meeting in open house forum on Wednesday, September 5, 2001, at the Marion High School, 1501 South Carbon Street, Marion, Illinois 62959, from 5 p.m. until 8 p.m.

FOR FURTHER INFORMATION CONTACT: Nurul Islam, Environmental Protection Specialist, RUS, Engineering and Environmental Staff, 1400 Independence Avenue, SW, Washington, DC 20250-1571, telephone (202) 720-1784, FAX: (202) 720-0820, e-mail: nislam@rus.usda.gov. Information is also available from Mr. Dick Myott, Environmental & Planning Department Manager, Southern Illinois Power Cooperative, 11543 Lake of Egypt Road, Marion, Illinois 62959, telephone (618) 964-1448 Ext. 268. His e-mail address is: rmyott@sipower.org.

SUPPLEMENTARY INFORMATION: SIPC proposes to construct the facility in Williamson County, Illinois. The primary purpose of the facility is to meet SIPC peak electrical load during hot summer weather. Under those conditions the facility's expected output is about 144 MW of power. The proposed project will consist of two simple cycle combustion turbines. The turbines will have a total gross rating of 166 MW. The primary fuel will be natural gas and the Number 2 fuel oil will serve as the back-up fuel. The plant will require approximately 15 acres of land. The project will also require construction of a total of about five-mile long new high-pressure gas line from the proposed generating station east to an intersection of two natural gas pipelines. The Texas Eastern Company and the Trunkline Gas Company own these lines. The construction of the gas pipeline will need a right-of-way approximately 35 to 50 wide. A 12-inch pipe will be installed in the trench of approximately 4 feet deep. The combustion turbine uses demineralized water injection for flue gas emissions control when firing with the Number 2 back up fuel oil and they will use approximately 225 gallons of water per minute. Water injection is not required when firing the natural gas fuel.

Alternatives to be considered by RUS and SIPC include no action, purchased power, upgrade of existing resources, new transmission facilities, alternative sites, alternative routes, fossil fuel technologies, customer-owned generation, energy conservation, renewable resources, and emerging technologies.

SIPC has prepared an Alternative Evaluations and Siting Studies for the project. The report is available for public review at the RUS or SIPC at the addresses provided in this notice and at the following location: Marion Carnegie Public Library, 206 South Market Street, Marion, Illinois 62959, (618) 993-5935.

Federal, state and local agencies, private organizations, and the public are invited to participate in the planning and analysis of the proposed project. Representatives from RUS and SIPC will be available at the scoping meeting to discuss RUS's environmental review process, the proposed project and the alternatives being considered, scope of the environmental issues to be considered, and answer questions. Oral and written comments will be accepted at the scoping meeting. Written comments regarding the proposed project will also be accepted for at least 30 days after the scoping meeting. All written comments should be sent to RUS at the address provided in this notice. 2

Any final action by RUS related to the proposed project will be subject to, and contingent upon, compliance with all relevant Federal environmental laws and regulations and completion of environmental review procedures as prescribed by the CEQ Regulations and RUS Environmental Policies and Procedures.

Dated: August 2, 2001.
Lawrence R. Wolfe,
Acting Director, Engineering and Environmental Staff, Rural Utilities Service.

[FR Doc. 01-20122 Filed 8-9-01; 8:45 am]

BILLING CODE 3410-15-P